DEPARTMENT OF TRANSPORTATION

Federal Aviation Administration

14 CFR Part 39

[Docket No. FAA-2024-1696; Project Identifier MCAI-2023-01234-A; Amendment 39-22850; AD 2024-19-08]

RIN 2120-AA64

Airworthiness Directives; Diamond Aircraft Industries Inc. (Type Certificate Previously Held by Diamond Aircraft Industries GmbH) Airplanes

AGENCY: Federal Aviation Administration (FAA), DOT.

ACTION: Final rule.

SUMMARY: The FAA is superseding Airworthiness Directive (AD) 2009-10-04 for certain Diamond Aircraft Industries GmbH (type certificate now held by Diamond Aircraft Industries Inc.) Model DA 40 and DA 40 F airplanes. AD 2009-10-04 required repetitively inspecting the nose landing gear (NLG) leg for cracks and replacing the NLG leg if cracks are found. Since the FAA issued AD 2009-10-04, Transport Canada updated mandatory continuing airworthiness information (MCAI) to correct this unsafe condition on these products. This AD results from changes made to the part replacement options and the repetitive inspections. This AD requires doing repetitive detailed inspections of the NLG leg pivot axle for cracking and if cracking is found replacing that part with a serviceable part. This AD also requires eventually replacing all NLG legs having certain part numbers with serviceable parts, if not already done, and prohibits installing affected parts. Replacing affected parts with serviceable parts is terminating action for the repetitive inspections specified in this AD. The FAA is issuing this AD to address the unsafe condition on these products.

DATES: This AD is effective November 29, 2024.

The Director of the Federal Register approved the incorporation by reference of certain publications listed in this AD as of November 29, 2024.

ADDRESSES:

AD Docket: You may examine the AD docket at regulations.gov under Docket No. FAA-2024-1696; or in person at Docket Operations between 9 a.m. and 5 p.m., Monday through Friday, except Federal holidays. The AD docket contains this final rule, the MCAI, any comments received, and other information. The address for Docket Operations is U.S. Department of Transportation, Docket Operations, M- 30, West Building Ground Floor, Room W12-140, 1200 New Jersey Avenue SE, Washington, DC 20590.

Material Incorporated by Reference:

• For Diamond Aircraft Industries Inc. material identified in this AD, contact Diamond Aircraft Industries Inc., 1560 Crumlin Sideroad, London, ON, Canada, N5V 1S2; phone: (519) 457-4041; email: support-canada@diamondaircraft.com; website: diamondaircraft.com.

• You may view this material at the FAA, Airworthiness Products Section, Operational Safety Branch, 901 Locust, Kansas City, MO 64106. For information on the availability of this material at the FAA, call (817) 222-5110. It is also available at regulations.gov under Docket No. FAA-2024-1696.

FOR FURTHER INFORMATION CONTACT: Gabriel Kim, Aviation Safety Engineer, FAA, 1600 Stewart Avenue, Suite 410, Westbury, NY 11590; phone: (516) 228-7300; email: 9-avs-nyaco-cos@faa.gov.

SUPPLEMENTARY INFORMATION:

Background

The FAA issued a notice of proposed rulemaking (NPRM) to amend 14 CFR part 39 to supersede AD 2009-10-04, Amendment 39-15899 (74 FR 22435, May 13, 2009) (AD 2009-10-04). AD 2009-10-04 applied to certain Diamond Aircraft Industries GmbH (type certificate now held by Diamond Aircraft Industries Inc.) Model DA 40 and DA 40 F airplanes. AD 2009-10-04 was prompted by MCAI originated by the European Union Aviation Safety Agency (EASA), which is the Technical Agent for the Member States of the European Union. EASA issued AD 2009-0016, dated January 22, 2009 (EASA AD 2009-0016), to address fatigue cracking of the NLG leg part number (P/N) D41-3223-10-00 at the pivot axle.

AD 2009-10-04 superseded and maintained the requirements of AD 2007-17-06, Amendment 39-15164 (72 FR 46549, August 21, 2007), which required repetitively inspecting the NLG leg for cracks and replacing the NLG leg if cracks were found. The FAA issued AD 2009-10-04 to exclude from the applicability any airplanes that had the improved NLG leg installed.

Effective November 15, 2017, the design and oversight responsibilities for the Model DA 40, DA 40 F, and DA 40 D airplanes were transferred from Diamond Aircraft Industries GmbH of Austria as the design approval holder, and EASA as the civil aviation authority, to Diamond Aircraft Industries Inc. (Diamond), of Canada as the new design approval holder, and Transport Canada as the civil aviation authority. After that transition, Transport Canada received several in-service reports of P/N D41-3223-10-00_1 cracking at the pivot axle and in some cases, fracture of the NLG leg. Investigation revealed that the failures were the result of fatigue cracking.

Since the FAA issued AD 2009-10-04, Transport Canada superseded EASA AD 2009-0016 and issued Transport Canada AD CF-2023-50, dated July 10, 2023 (Transport Canada AD CF-2023-50), to address failure of the NLG leg at the pivot axle by requiring initial and repetitive detailed inspections of NLG leg P/N D41-3223-10-00 and P/N D41-3223-10-00_1 to detect cracking, replacing a NLG leg, as required, with a serviceable part, and prohibiting the installation of NLG leg P/N D41-3223-10-00 or P/N D41-3223-10-00_1 as a replacement part.

Transport Canada AD CF-2023-50 differed from the Diamond material because Transport Canada AD CF-2023-50 required a detailed inspection of the pivot axle of the NLG leg P/N D41-3223-10-00 and P/N D41-3223-10-00_1 using a bright light and 10X magnifying glass instead of Type II visible dye for the inspection of the pivot axle. After Transport Canada AD CF-2023-50 was issued, the repetitive inspection interval was increased from 100 hours air time to 110 hours air time to align with the scheduled 100-hour inspection in chapter 5 of the DA 40 series Airplane Maintenance Manual. To require the change to Transport Canada AD CF-2023-50, Transport Canada issued AD CF-2023-50R1, dated November 29, 2023 (also referred to as the MCAI). The MCAI was published to address the time interval change of the repetitive inspection from 100-hour intervals to 110-hour intervals.

The NPRM published in the Federal Register on July 5, 2024 (89 FR 55525). The NPRM was prompted by failure of a NLG in the area of the pivot axle and changes made to the part replacement options and the repetitive inspections as detailed in the MCAI. The MCAI was published to address the time interval change of the repetitive inspection from 100-hour intervals to 110-hour intervals to align with the scheduled 100-hour inspection in chapter 5 of the DA 40 series Airplane Maintenance Manual.

In the NPRM, the FAA proposed to require repetitive detailed inspections of the NLG leg pivot axle for cracking and if cracking was found replacing that part with a serviceable part. In the NPRM, the FAA also proposed to require eventually replacing all NLG legs having certain part numbers with serviceable parts, if not already done, and prohibit installing affected parts. Replacing affected parts with serviceable parts is terminating action for the repetitive inspections required by this AD.

The FAA is issuing this AD to address the unsafe condition on these products.

You may examine the MCAI in the AD docket at regulations.gov under Docket No. FAA-2024-1696.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. This AD is adopted as proposed in the NPRM.

Material Incorporated by Reference Under 1 CFR Part 51

The FAA reviewed Diamond Mandatory Service Bulletin MSB 40-091, Rev. 0, dated January 18, 2021, published with Diamond Aircraft Industries Work Instruction WI-MSB 40-091, Rev. 0, dated January 18, 2021 (issued as one document). This material specifies procedures for doing repetitive dye penetrant inspections of the NLG leg pivot axle for cracking and replacing the NLG for Model DA 40 airplanes.

The FAA also reviewed Diamond Mandatory Service Bulletin MSB F4-038, Rev. 0, dated January 18, 2021, published with Diamond Aircraft Industries Work Instruction WI-MSB F4-038, Rev. 0, dated January 18, 2021 (issued as one document). This material specifies procedures for doing repetitive dye penetrant detailed inspections of the NLG leg pivot axle for cracking and replacing the NLG for Model DA 40 F airplanes.

This material is reasonably available because the interested parties have access to it through their normal course of business or by the means identified in ADDRESSES.

Differences Between This AD, the MCAI, and the Material

The MCAI applies to Model DA 40 D airplanes, however, this AD does not because that model does not have an FAA type certificate.

Although the Diamond material specifies to do dye penetrant inspections, the MCAI requires, and this AD requires, using a bright light (minimum of 100 foot-candles) and 10X magnifying glass instead of dye penetrant.

Costs of Compliance

The FAA estimates that this AD affects 693 airplanes of U.S. registry.

The FAA estimates the following costs to comply with this AD:

Estimated Costs
Action | Labor cost | Parts cost | Cost per airplane | Cost on U.S. operators
Inspect NLG leg pivot axle | 1 work-hour × $85 per hour = $85 per inspection cycle | $50 per inspection cycle | $135 per inspection cycle | Up to $93,555 per inspection cycle.
Replace NLG leg | 2 work-hours × $85 per hour = $170 | $3,900 | $4,070 | Up to $2,820,510.

The costs of the inspection and replacement of the NLG leg are based on all airplanes having an affected NLG installed. The FAA has no way of determining the number of airplanes that have the affected NLG installed, and those that do not have one installed are only affected by the installation prohibition.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2009-10-04, Amendment 39-15899 (74 FR 22435, May 13, 2009); and

b. Adding the following new airworthiness directive:

2024-19-08 Diamond Aircraft Industries Inc. (Type Certificate Previously Held by Diamond Aircraft Industries GmbH): Amendment 39-22850; Docket No. FAA-2024-1696; Project Identifier MCAI-2023-01234-A.

(a) Effective Date

This airworthiness directive (AD) is effective November 29, 2024.

(b) Affected ADs

This AD replaces AD 2009-10-04, Amendment 39-15899 (74 FR 22435, May 13, 2009) (AD 2009-10-04).

(c) Applicability

This AD applies to Diamond Aircraft Industries Inc. (type certificate previously held by Diamond Aircraft Industries GmbH) Model DA 40 and DA 40F airplanes, all serial numbers, certificated in any category.

(d) Subject

Joint Aircraft System Component (JASC) Code 3220, Nose/Tail Landing Gear.

(e) Unsafe Condition

This AD was prompted by failure of a nose landing gear (NLG) in the area of the pivot axle. The unsafe condition, if not addressed, could lead to damage to the airplane and injury to occupants.

(f) Compliance

Comply with this AD within the compliance times specified, unless already done.

(g) Definitions

For the purpose of this AD the definitions in paragraphs (g)(1) through (3) of this AD apply:

(1) An “affected part” is an NLG leg having either P/N D41-3223-10-00 or P/N D41-3223-10-00_1.

(2) A “serviceable part” is an NLG leg that is not an affected part. NLG legs having P/N D41-3223-10-00_2 or P/N D41-3223-10-00_3 are considered serviceable parts.

(3) The “applicable mandatory service bulletin (MSB) for your airplane” is:

(i) For Model DA 40 airplanes: Diamond Aircraft Industries Mandatory Service Bulletin MSB 40-091, Rev. 0, dated January 18, 2021, published with Diamond Aircraft Industries Work Instruction WI-MSB 40-091, Rev. 0, dated January 18, 2021 (issued as one document).

(ii) For Model DA 40 F airplanes: Diamond Aircraft Industries Mandatory Service Bulletin MSB F4-038, Rev. 0, dated January 18, 2021, published with Diamond Aircraft Industries Work Instruction WI-MSB F4-038, Rev. 0, dated January 18, 2021 (issued as one document).

(h) Required Actions

For all airplanes with an affected part installed, do the applicable actions specified in paragraphs (h)(1) and (2) of this AD.

(1) Within 25 hours time-in-service (TIS) or 30 days after the effective date of this AD, whichever occurs first, and thereafter at intervals not to exceed 110 hours TIS, perform the actions required by paragraphs (h)(1)(i) through (v) of this AD:

(i) Prepare the airplane for inspection of the pivot axle of the affected part in accordance with Section III, Paragraphs 1 through 4, of the Work Instruction of the applicable MSB for your airplane.

(ii) Clean the pivot axle of the affected part ensuring that any visible dye inspection residue is removed.

Note 1 to paragraph (h)(1)(ii): Paragraph 5-63, Cleaners and Applicators, of Chapter 5, Nondestructive Inspection (NDI), Section 5, Penetrant Inspection, of FAA Advisory Circular 43.13-1B, “Acceptable Methods, Techniques, and Practices—Aircraft Inspection and Repair,” Change 1, dated September 8, 1998, provides guidance regarding an approved cleaning method.

(iii) Perform a detailed inspection of the pivot axle of the affected part using a bright light (minimum of 100 foot-candles) and 10X magnifying glass to detect cracking, paying special attention to the radius at the top of the pivot axle as shown in Figure 1 of the Work Instruction of the applicable MSB for your airplane, except where Figure 1 refers to a “dye penetrant inspection” this AD does not require that type of inspection.

(iv) If any cracking is found during any inspection required by paragraph (h)(1)(iii) of this AD, before further flight, replace the affected part with a serviceable part, and reinstall the nose wheel fork in accordance with Section III, Paragraphs 8 through 12 of the Work Instruction of the applicable MSB for your airplane.

(v) If no cracking is found during any inspection required by paragraph (h)(1)(iii) of this AD and the compliance time specified in paragraph (h)(2) of this AD has not been exceeded, the affected part can remain installed until the compliance time specified in paragraph (h)(2) of this AD is reached. Reinstall the nose wheel fork in accordance with Section III, Paragraphs 8 through 12, of the Work Instruction of the applicable MSB for your airplane.

(2) Within 2,500 hours TIS or 24 months after the effective date of this AD, whichever occurs first, replace an affected part with a serviceable part. This part replacement is terminating action for the repetitive inspections required by paragraph (h)(1) of this AD.

(i) Parts Installation Prohibition

As of the effective date of this AD, do not install an affected part on any airplane.

(j) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, mail it to the address identified in paragraph (k)(1) of this AD or email to: AMOC@faa.gov. If mailing information, also submit information by email. Before using any approved AMOC, notify your appropriate principal inspector, or lacking a principal inspector, the manager of the local Flight Standards District Office/certificate holding district office.

(k) Additional Information

(1) For more information about this AD, contact Gabriel Kim, Aviation Safety Engineer, FAA, 1600 Stewart Avenue, Suite 410, Westbury, NY 11590; phone: (516) 228-7300; email: 9-avs-nyaco-cos@faa.gov.

(2) FAA Advisory Circular 43.13-1B, “Acceptable Methods, Techniques, and Practices—Aircraft Inspection and Repair,” Change 1, dated September 8, 1998, may be found at drs.faa.gov.

(l) Material Incorporated by Reference

(1) The Director of the Federal Register approved the incorporation by reference (IBR) of the material listed in this paragraph under 5 U.S.C. 552(a) and 1 CFR part 51.

(2) You must use this material as applicable to do the actions required by this AD, unless the AD specifies otherwise.

(i) Diamond Aircraft Industries Mandatory Service Bulletin MSB 40-091, Rev. 0, dated January 18, 2021, published with Diamond Aircraft Industries Work Instruction WI-MSB 40-091, Rev. 0, dated January 18, 2021 (issued as one document).

(ii) Diamond Aircraft Industries Mandatory Service Bulletin MSB F4-038, Rev.0, dated January 18, 2021, published with Diamond Aircraft Industries Work Instruction WI-MSB F4-038, Rev. 0, dated January 18, 2021 (issued as one document).

(3) For Diamond Aircraft Industries material identified in this AD, contact Diamond Aircraft Industries Inc., 1560 Crumlin Sideroad, London, ON, Canada, N5V 1S2; phone: (519) 457-4041; email: support-canada@diamondaircraft.com; website: diamondaircraft.com.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on October 21, 2024.
Steven W. Thompson,
Acting Deputy Director, Compliance & Airworthiness Division, Aircraft Certification Service.

[FR Doc. 2024-24758 Filed 10-24-24; 8:45 am]

BILLING CODE 4910-13-P